DEPARTMENT OF DEFENSE

Department of the Army; Corps of Engineers

Notice of Availability of a Draft Integrated System Investment Plan and Programmatic Environmental Impact Statement for the Ohio River Mainstem System Study

Correction

In notice document 06-4884 beginning on page 30391 in the issue of Friday, May 26, 2006, make the following corrections:

1. On page 30391, in the third column, under the heading for further information contact, in the first line, “Mr.” should read “Ms.”.

2. On page 30392, in the second column, under paragraph g., add a bulleted paragraph immediately following the third bulleted paragraph to read as follows:

“• Initiate main chamber rehabilitation study for Pike Island to complete in 2014.”

[FR Doc. C6-4884 Filed 5-31-06; 8:45 am]

BILLING CODE 1505-01-D